NATIONAL SCIENCE FOUNDATION

Waste Regulation

AGENCY: National Science Foundation.

ACTION: Correction to notice of permit modification request received under the Antarctic Conservation Act of 1978, Public Law 95-541.

SUMMARY: On March 5, 2012, the Federal Register published a notice from the National Science Foundation (NSF) regarding a permit modification request to transfer the permit from the incumbent support contractor, Raytheon Polar Services Company to Lockheed Martin Corporation.

DATES: The public notice period ends March 22, 2012.

ADDRESSES: Comments should be addressed to the Permit Office, Room 755, Office of Polar Programs, National Science Foundation, 4201 Wilson Boulevard, Arlington, Virginia 22230.

FOR FURTHER INFORMATION CONTACT: Polly A. Penhale, Environmental Officer, at the above address or (703) 292-8030.

SUPPLEMENTARY INFORMATION: A notice of a permit modification request was published in the Federal Register on March 5, 2012. The Public Comment period was incorrectly identified as 30 days and this Notice corrects the period to 10 days. The permit holder's address for the Notice was incorrectly identified as: Lockheed Martin Corporation, Information Systems & Global Solutions (I&GS) Engineering Services Segment, 700 N. Frederick Avenue, Gaithersburg, MD 20879-3328. This Notice corrects the permit holder's address to: Lockheed Corporation, Information Systems & Global Solutions (I&GS) Engineering Services Segment, Ms. Celia Lang, Program Director, 7400 South Tucson Way, Centennial, CO 80112.

Nadene G. Kennedy,
Permit Officer.

[FR Doc. 2012-5874 Filed 3-9-12; 8:45 am]

BILLING CODE 7555-01-P